DEPARTMENT OF TRANSPORTATION

Federal Transit Administration

[Docket No. FTA-2006-23636]

Notice of Clarification of Effective Date for Guidance on New Starts Policies and Procedures

AGENCY: Federal Transit Administration (FTA), DOT.

ACTION: Notice of clarification.

SUMMARY: This notice clarifies the effective date set forth in the notice of availability and request for comments for the Guidance on New Starts Policies and Procedures published on January 19, 2006, in the Federal Register. The Proposed Guidance on New Starts Policies and Procedures did not become effective on April 30, 2006, as stated in the January 19, 2006 notice. FTA will publish an additional notice in the Federal Register before new requirements are to become effective.

FOR FURTHER INFORMATION CONTACT: Ron Fisher, Office of Planning and Environment, telephone (202) 366-4033, Federal Transit Administration, U.S. Department of Transportation, 400 Seventh Street, SW., Washington, DC 20590 or Ronald.Fisher@fta.dot.gov.

SUPPLEMENTARY INFORMATION: In the notice of availability for the proposed Guidance on New Starts Policies and Procedures issued on January 19, 2006 (71 FR 3149), FTA noted that the proposed changes “will become effective April 30, 2006.” With today's notice, FTA seeks to clarify that none of the changes in the proposed Guidance on New Starts Policies and Procedures became effective on April 30, 2006. Further, none of those changes shall otherwise become effective until FTA publishes notice in the Federal Register, in accordance with the applicable requirements of 49 U.S.C. 5334(1), responding to comments received and explaining any changes, if appropriate, to the proposed guidance based on those comments.

Issued in Washington, DC this 27th day of April, 2006.
Sandra K. Bushue,
Deputy Administrator.

[FR Doc. 06-4165 Filed 5-2-06; 8:45 am]

BILLING CODE 4910-57-M